DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to section 10(c) of the Endangered Species Act of 1973, as amended (16 U.S.C. 1531 et seq.).

If you wish to comment, you may submit comments by any one of the several methods. You may mail comments to the Service's Regional Office (see ADDRESSES). You may also comment via the internet to “victoria_davis@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

DATES: Written data or comments on these applications must be received, at the address given below, by May 29, 2001.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: Applicant: Homosassa Springs Wildlife State Park, Tom Linley, Park Manager, Homosassa, Florida TE040783-0

The applicant requests authorization to take (Hold in Captivity) twelve Key deer. Odocoileus virginianus clavium, for the purposes of maintaining a captive population to provide a safety net for the wild population if a natural disaster, i.e., catastrophic hurricane, were to occur, and to provide educational opportunities for the general public. Odocoileus virginianus clavium will be transferred from the National Key Deer Refuge, Big Pine Key, Monroe County, Florida to the Homosassa Springs Wildlife State Park, Homossa, Citrus County, Florida.

Applicant: U.S. Forest Service-Savannah River, Donald W. Imm, Acting Assistant Manager Wildlife, Fisheries, and Botany, New Ellenton, South Carolina, TE040792-0.

The applicant requests authorization to take (harass during capturing, banding, releasing, monitoring, and habitat management) the Red-cockaded woodpecker, Picoides borealis, for the purposes of managing the populations on the Department of Energy Savannah River Site. The proposed activities will take place in Aiken, Barnwell, and Allendale Counties, South Carolina.

Dated: April 12, 2001.
Sam D. Hamilton,
Regional Director.

[FR Doc. 01-10377 Filed 4-25-01; 8:45 am]

BILLING CODE 4310-55-M